DEPARTMENT OF COMMERCE

International Trade Administration

[A-428-830]

Stainless Steel Bar from Germany; Preliminary Results of the Sunset Review of Antidumping Duty Order

Correction

In notice document E7-10367 beginning on page 29970 in the issue of Wednesday, May 30, 2007, make the following correction:

On page 29971, in the third column, in the table, under the “Weighted-Average Margin (Percent)” heading, in the first entry, “0.73” should read “0.73”.

[FR Doc. Z7-10367 Filed 6-6-07; 8:45 am]

BILLING CODE 1505-01-D

DEPARTMENT OF DEFENSE

Department of the Army; Corps of Engineers

Public Hearing and Notice of Availability for the Draft Environmental Impact Statement for the Matagorda Ship Channel Improvement Project, Calhoun County and Matagorda County, TX

Correction

In notice document 07-2339 beginning on page 28032 in the issue of Friday, May 18, 2007, make the following corrections:

(1) On page 28033, in the first column, under the SUPPLEMENTARY INFORMATION heading, in the first line, the word “not” should be removed.

(2) On the same page, in the same column, under the Background heading, in the third line from the bottom of the paragraph, the word “not” should read “now”.

(3) On the same page, in the same column, under the Project Description heading, in the tenth line “-23+100” should read “-23+000”.

[FR Doc. C7-2339 Filed 6-6-07; 8:45 am]

BILLING CODE 1505-01-D

SECURITIES AND EXCHANGE COMMISSION

[Release No. 34-55770; File No. SR-NSCC-2007-05]

Self-Regulatory Organizations; National Securities Clearing Corporation; Notice of Filing and Immediate Effectiveness of Proposed Rule Change Relating to Its Ability To Receive Transaction Data From Trade Reporting Facilities That Are Facilities of a Self-Regulatory Organization

Correction

In notice document E7-9762 beginning on page 28752 in the issue of Tuesday, May 22, 2007, make the following correction:

On page 28753, in the second column, in eighth line from the bottom of the document, “June 11, 2007” should read “ June 12, 2007”.

[FR Doc. Z7-9762 Filed 6-6-07; 8:45 am]

BILLING CODE 1505-01-D